DEPARTMENT OF DEFENSE

Office of the Secretary

Board of Regents, Uniformed Services University of the Health Sciences; Notice of Federal Advisory Committee Meeting

AGENCY: Under Secretary of Defense for Personnel and Readiness (USD(P&R)), Department of Defense (DoD).

ACTION: Notice of Federal Advisory Committee meeting.

SUMMARY: The DoD is publishing this notice to announce that the following Federal Advisory Committee meeting of the Board of Regents, Uniformed Services University of the Health Sciences (BoR USUHS) will take place.

DATES: Tuesday, August 23, 2022, open to the public from 12 p.m. to 4 p.m.

ADDRESSES: Uniformed Services University of the Health Sciences, 4301 Jones Bridge Road, Bethesda, MD 20814. The meeting will be held both in-person and virtually. To participate in the meeting, see the Meeting Accessibility section for instructions.

FOR FURTHER INFORMATION CONTACT: Annette Askins-Roberts, Designated Federal Officer (DFO), at (301) 295-3066 or annette.askins-roberts@usuhs.edu. Mailing address is 4301 Jones Bridge Road, Bethesda, MD 20814. website: https://www.usuhs.edu/ao/board-of-regents.

SUPPLEMENTARY INFORMATION: Due to circumstances beyond the control of the Designated Federal Officer, the Board of Regents, Uniformed Services University of the Health Sciences was unable to provide public notification required by 41 CFR 102-3.150(a) concerning its August 23, 2022 meeting. Accordingly, the Advisory Committee Management Officer for the Department of Defense, pursuant to 41 CFR 102-3.150(b), waives the 15-calendar day notification requirement. This meeting is being held under the provisions of the Federal Advisory Committee Act (FACA) (5 U.S.C., Appendix), the Government in the Sunshine Act (5 U.S.C. 552b), and 41 CFR 102-3.140 and 102-3.150.

Purpose of the Meeting: The purpose of the meeting is to provide advice and recommendations to the Secretary of Defense, through the USD(P&R), on academic and administrative matters critical to the full accreditation and successful operation of Uniformed Services University (USU). These actions are necessary for USU to pursue its mission, which is to educate, train and comprehensively prepare uniformed services health professionals, officers, scientists, and leaders to support the Military and Public Health Systems, the National Security and National Defense Strategies of the United States, and the readiness of our Uniformed Services.

Agenda: The schedule includes opening comments from the Chair; a report by the USU President on recent actions affecting academic and operational aspects of USU; and reports from the School of Medicine, Graduate School of Nursing, Postgraduate Dental College, College of Allied Health Sciences, and the Assistant Vice President for Accreditation.

Meeting Accessibility: Pursuant to Federal statutes and regulations (5 U.S.C., Appendix, 5 U.S.C. 552b, and 41 CFR 102-3.140 through 102-3.165), the meeting will be held in-person and virtually and is open to the public from 12 p.m. to 4 p.m. Seating is on a first-come basis. Members of the public wishing to attend the meeting in person or virtually should contact Ms. Askins-Roberts no later than Monday, August 22, 2022 at 12 p.m. at the address and phone number noted in the FOR FURTHER INFORMATION CONTACT section.

Written Statements: Pursuant to section 10(a)(3) of the FACA and 41 CFR 102-3.140, the public or interested organizations may submit written comments to the BoR USUHS about its approved agenda pertaining to this meeting or at any time regarding the BoR USUHS' mission. Individuals submitting a written statement must submit their statement to Ms. Askins-Roberts at the address noted in the FOR FURTHER INFORMATION CONTACT section. Written statements that do not pertain to a scheduled meeting of the BoR USUHS may be submitted at any time. If individual comments pertain to a specific topic being discussed at the planned meeting, then these statements must be received at least 4 calendar days prior to the meeting. Otherwise, the comments may not be provided to or considered by the BoR USUHS until a later date. The DFO will compile all timely submissions with the BoR USUHS' Chair and ensure such submissions are provided to BoR USUHS members before the meeting.

Dated: August 16, 2022.
Aaron T. Siegel,
Alternate OSD Federal Register Liaison Officer, Department of Defense.

[FR Doc. 2022-17893 Filed 8-18-22; 8:45 am]

BILLING CODE 5001-06-P